DEPARTMENT OF LABOR

Employment and Training Administration

Notice To Ensure State Workforce Agencies Are Aware of the Revised Schedule of Remuneration for the Unemployment Compensation for Ex-Servicemembers Program That Reflects the Military Pay Increase Effective January 1, 2018

AGENCY: Employment and Training Administration, Labor.

ACTION: Notice.

SUMMARY: Each year, the Department of Defense issues a Schedule of Remuneration that may be used by states, as needed, for UCX purposes. States must use the schedule to determine Federal military wages for UCX “first claims” only when the Federal Claims Control Center (FCCC) responds to a request for information indicating that there is no Copy 5 of the Certificate of Release or Discharge from Active Duty (DD Form 214) for an individual under the social security number provided. A response from the FCCC that indicates “no DD214 on file” will prompt the state to start the affidavit process and to use the attached schedule to calculate the Federal military wages for an unemployment insurance or UCX monetary determination.

The schedule applies to UCX “first claims” filed beginning with the first day of the first week that begins on or after January 1, 2018, pursuant to the UCX program regulations (see 20 CFR 614.12(c)). States must continue to use the 2017 schedule (or other appropriate schedule) for UCX “first claims” filed before the effective date of the revised schedule.

Rosemary Lahasky,
Deputy Assistant Secretary for Employment and Training, Labor.

Attachment

2018 Federal Schedule of Remuneration
[20 CFR 614.12(d)]
Pay Grade | Monthly rate | Weekly (7/30th) | Daily (1/30th)
1. Commissioned Officers:
0-10 | 20,033.28 | $4,674.46 | $667.78
0-9 | 20,003.77 | 4,667.53 | 666.79
0-8 | 18,850.15 | 4,398.38 | 628.34
0-7 | 16,878.93 | 3,938.41 | 562.63
0-6 | 14,902.41 | 3,477.25 | 496.75
0-5 | 12,596.59 | 2,939.23 | 419.89
0-4 | 10,760.30 | 2,510.76 | 358.68
0-3 | 8,588.86 | 2,004.10 | 286.30
0-2 | 6,921.15 | 1,614.90 | 230.70
0-1 | 5,387.32 | 1,257.06 | 179.58
2. Commissioned Officers With Over 4 Years Active Duty As An Enlisted Member or Warrant Officer:
0-3E | 9,951.83 | 2,322.11 | 331.73
0-2E | 8,182.72 | 1,909.32 | 272.76
0-1E | 7,087.94 | 1,653.82 | 236.26
3. Warrant Officer:
W-5 | 11,727.76 | 2,736.51 | 390.93
W-4 | 10,204.40 | 2,381.05 | 340.15
W-3 | 8,790.03 | 2,051.00 | 293.00
W-2 | 7,590.03 | 1,771.00 | 253.00
W-1 | 6,559.87 | 1,530.62 | 218.66
4. Enlisted Personnel:
E-9 | 9,695.12 | 2,262.19 | 323.17
E-8 | 8,029.70 | 1,873.62 | 267.66
E-7 | 7,165.65 | 1,671.95 | 238.85
E-6 | 6,315.07 | 1,473.50 | 210.50
E-5 | 5,356.17 | 1,249.78 | 178.54
E-4 | 4,426.94 | 1,032.92 | 147.56
E-3 | 4,007.04 | 934.99 | 133.57
E-2 | 3,893.40 | 908.46 | 129.78
E-1 | 3,476.11 | 811.09 | 115.87
The Federal Schedule includes columns reflecting derived weekly and daily rates. This revised Federal Schedule of Remuneration is effective for UCX “first claims” filed beginning with the first day of the first week which begins on or after January 1, 2018, pursuant to 20 CFR 614.12(c).

[FR Doc. 2018-01911 Filed 1-30-18; 8:45 am]

BILLING CODE 4510-FW-P